DEPARTMENT OF COMMERCE

National Oceanic and Atmospheric Administration

RIN 0648-XC614

Marine Mammals; File No. 17996

AGENCY: National Marine Fisheries Service (NMFS), National Oceanic and Atmospheric Administration (NOAA), Commerce.

ACTION: Notice; receipt of application.

SUMMARY: Notice is hereby given that Silverback Films Ltd, 59 Cotham Hill, Cotham, Bristol, BS6 6JR, United Kingdom, has applied in due form for a permit to conduct commercial or educational photography of bottlenose dolphins (Tursiops truncatus).

DATES: Written, telefaxed, or email comments must be received on or before May 13, 2013.

ADDRESSES: These documents are available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Kristy Beard, (301) 427-8401.

SUPPLEMENTARY INFORMATION: The subject permit is requested under the authority of the Marine Mammal Protection Act of 1972, as amended (MMPA; 16 U.S.C. 1361 et seq.), and the regulations governing the taking and importing of marine mammals (50 CFR part 216). Section 104(c)(6) provides for photography for educational or commercial purposes involving non-endangered and non-threatened marine mammals in the wild.

Silverback Films Ltd requests a two-year photography permit to film bottlenose dolphin strand-feeding events in the estuaries and creeks of Bull Creek and around Hilton Head, South Carolina. Filming would be conducted from a small boat and from a helicopter. A maximum of 500 dolphins, annually, would be approached. Filming would occur over one (or two if needed) sessions of three to four weeks each and be completed by October 2014. Footage would be used in a seven-part television series, The Hunt, an educational series on predation strategy and predator-prey dynamics for the British Broadcasting Company.

In compliance with the National Environmental Policy Act of 1969 (42 U.S.C. 4321 et seq.), an initial determination has been made that the activity proposed is categorically excluded from the requirement to prepare an Environmental Assessment or Environmental Impact Statement.

Concurrent with the publication of this notice in the Federal Register, NMFS is forwarding copies of the application to the Marine Mammal Commission and its Committee of Scientific Advisors.

Dated: April 8, 2013.
P. Michael Payne,
Chief, Permits and Conservation Division, Office of Protected Resources, National Marine Fisheries Service.

[FR Doc. 2013-08571 Filed 4-11-13; 8:45 am]

BILLING CODE 3510-22-P